ENVIRONMENTAL PROTECTION AGENCY

[EPA-HQ-OW-2020-0017-0001; FRL—10014-14-OMS]

Information Collection Request Submittal to OMB for Review and Approval; Comment Request; 2020 Drinking Water Infrastructure Needs Survey and Assessment (New)

AGENCY: Environmental Protection Agency (EPA).

ACTION: Notice.

SUMMARY: The U.S. Environmental Protection Agency (EPA) has submitted an information collection request (ICR), 2020 Drinking Water Infrastructure Needs Survey and Assessment (EPA ICR Number 2616.01, OMB Control Number 2040-NEW) to the Office of Management and Budget (OMB) for review and approval in accordance with the Paperwork Reduction Act. This is a request to reinstate a previously discontinued collection. Public comments were previously requested via the Federal Register on February 5, 2020, during a 60-day comment period. This notice allows for an additional 30 days for public comments. A fuller description of the ICR is given in this document, including the ICR's estimated burden and cost to the public. An agency may not conduct or sponsor and a person is not required to respond to a collection of information unless it displays a currently valid OMB control number.

DATES: Additional comments may be submitted on or before September 24, 2020.

ADDRESSES: Submit your comments to EPA, referencing Docket ID No. EPA-HQ-OW-2020-0017, online using www.regulations.gov (our preferred method), by email to ow-docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Robert Barles, Drinking Water Protection Division, Office of Ground Water and Drinking Water, Environmental Protection Agency, telephone number: 202-564-3814; email address: barles.robert@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The purpose of this information collection is to identify the infrastructure needs of public water systems for the 20-year period from January 2020 through December 2039. EPA's Office of Ground Water and Drinking Water will collect these data to comply with Sections 1452(h) and 1452(i)(4) of the Safe Drinking Water Act (42 U.S.C. 300j-12). The Agency will use a questionnaire to collect capital investment need information from selected community water systems and not-for-profit non-community water systems. Participation in the survey is voluntary. The data from the questionnaires will provide EPA with new information from the field to assist in the 2020 update to the Agency's assessment of the nationwide infrastructure needs of public water systems. Also, as mandated by section 1452(a)(1)(D)(ii) of the Safe Drinking Water Act, EPA uses the results of the latest survey to allocate Drinking Water State Revolving Fund (DWSRF) monies to the states. Under the allotment formula, each state receives a grant of the annual DWSRF appropriation in proportion to the state's share of the total national need, with the proviso that each state receives at least one percent of the total funds available.

Form numbers: 6100-03.

Respondents/affected entities: Community water systems not-for-profit non-community water systems, and state agencies.

Respondent's obligation to respond: Voluntary.

Estimated number of respondents: 3,912 (total).

Frequency of response: One time.

Total estimated burden: 15,177 hours (per year). Burden is defined at 5 CFR 1320.03(b).

Total estimated cost: $1,705,941 (per year), includes $0 annualized capital or operation and maintenance costs.

Changes in estimates: This is a new ICR. The estimated total public reporting burden over the entire four-year length of the 2020 DWINSA is over 8,000 hours higher compared with the ICR approved by OMB for the 2015 DWINSA survey (OMB control number 2040-0274). This burden increase is almost entirely a result of the 2020 Survey being the first effort to collect information on lead service line inventories for all system types across all states and territories as well as tribal water systems.

Courtney Kerwin,
Director, Regulatory Support Division.

[FR Doc. 2020-18568 Filed 8-24-20; 8:45 am]

BILLING CODE 6560-50-P